DEPARTMENT OF COMMERCE

National Oceanic and Atmospheric Administration

RIN 0648-XF520

Endangered and Threatened Species; Recovery Plan for the Blue Whale and Notice of Initiation of a 5-year Review

AGENCY: National Marine Fisheries Service (NMFS), National Oceanic and Atmospheric Administration (NOAA), Commerce.

ACTION: Notice of availability of draft recovery plan; request for comments; notice of initiation of a 5-year review; request for information.

SUMMARY: We, the National Marine Fisheries Service (NMFS), announce the availability of the Draft Revised Recovery Plan (Draft Plan) for the Blue Whale (Balaenoptera musculus) for public review. We are soliciting review and comment from the public and all interested parties on the Draft Plan, and will consider all substantive comments received during the review period before submitting the Plan for final approval. We also are initiating a 5-year review of the blue whale and are requesting new information on its status.

DATES: Comments on the Draft Plan and information for the 5-year review must be received by December 11, 2018.

ADDRESSES: You may submit comments on the Draft Plan and information for the 5-year review, identified by NOAA-NMFS-2017-0078, by either of the following methods:

• Electronic Submission: Submit all electronic public comments on the Draft Plan and information for the 5-year review via the Federal eRulemaking Portal. Go to www.regulations.gov/#!docketDetail;D=NOAA-NMFS-2017-0078. Click the “Comment Now!” icon, complete the required fields, and enter or attach your comments.

• Mail: Submit written comments on the Draft Plan or information for the 5-year review to Chris Yates, Assistant Regional Administrator, Protected Resources Division, NMFS, West Coast Regional Office, Attn: Nancy Young, 7600 Sand Point Way NE, Seattle, WA 98115.

Instructions: Comments or information sent by any other method, to any other address or individual, or received after the end of the comment period, may not be considered by NMFS. All comments and information received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous.

The Draft Plan is available online at www.regulations.gov/#!docketDetail;D= NOAA-NMFS-2017-0078 or upon request from the NMFS West Coast Region, Protected Resources Division.

FOR FURTHER INFORMATION CONTACT: Nancy Young, (206) 526-6550, nancy.young@noaa.gov; or Therese Conant, (916) 930-3627, therese.conant@noaa.gov.

SUPPLEMENTARY INFORMATION: The Endangered Species Act (ESA) of 1973, as amended (16 U.S.C. 1531 et seq.), requires that NMFS develop and implement recovery plans for the conservation and survival of threatened and endangered species under its jurisdiction, unless it is determined that such plans would not promote the conservation of the species. Section 4(f)(1) of the ESA requires that recovery plans incorporate: (1) Objective, measurable criteria which, when met, would result in a determination that the species is no longer threatened or endangered; (2) site-specific management actions necessary to achieve the plan's goals; and (3) estimates of the time required and costs to implement recovery actions.

The blue whale (Balaenoptera musculus) was listed as endangered throughout its range under the precursor to the ESA, the Endangered Species Conservation Act of 1969, and remained on the list of threatened and endangered species after the passage of the ESA in 1973 (35 FR 8491; June 2, 1970). We prepared a recovery plan for the blue whale that was released for public comment and review on August 1, 1997 (62 FR 41367) and finalized on October 23, 1998 (63 FR 56911). On April 17, 2012, we announced our intent to update the blue whale recovery plan and requested relevant information from the public (77 FR 22760).

NMFS received eight comments in response to the 2012 request for information, three of which contained substantive information on blue whale distribution and habitat use, abundance, and potential threats or limiting factors such as prey competition, noise and disturbance, climate change and ocean acidification, hunting, and ship strikes. Information provided by commenters has been considered and incorporated into the revised Draft Plan where appropriate. In addition, one commenter recommended that NMFS convene a recovery team and revise, rather than update the Plan. The commenter also recommended that the revised Plan address blue whales globally, rather than just the North Atlantic and North Pacific populations; establish recovery criteria; and provide sufficient direction to adequately identify and address threats, particularly ship strikes, noise pollution, climate change and ocean acidification.

The Draft Plan now available for public review and comment is a revision to the 1998 Plan, rather than an update, because of the extent of the changes. Similar to other, recent recovery plans for large whales (i.e., fin whale, sei whale, sperm whale, North Pacific right whale), the revision was drafted by NMFS without a recovery team. The Draft Plan expands the geographical extent of the 1998 Plan by addressing blue whales worldwide; summarizes new information on blue whale natural history, population status, and potential threats; establishes new demographic and threat-based recovery criteria; and outlines a revised set of recovery actions, priority numbers, and estimated blue whale recovery program cost over an initial 5-year period.

Commercial whaling was the main cause of blue whales' historical decline, and is not a current operative threat only because an international moratorium on commercial whaling remains in place. Therefore, a primary strategy of the Draft Plan is to maintain the international ban on commercial hunting that was instituted in 1986. The Draft Plan also provides a strategy to improve our understanding of how potential threats may be limiting blue whale recovery. Finally, the Draft Plan provides a research strategy to obtain data necessary to determine blue whale taxonomy, population structure, distribution, and habitat, which can then inform estimation of population abundance and trends. After the populations and their potential threats are more fully understood, NMFS will modify the Plan to more specifically include actions to minimize any threats that are determined to be limiting recovery.

The total time and cost to recovery are not possible to predict with the current information, particularly given the uncertainty in the significance of potential threats and any actions that might be required to address them. Thus, an estimate of the time required and the cost to carry out those recovery actions needed to achieve the Plan's goal and to achieve intermediate steps (beyond five years) is not practicable. Conducting research necessary to evaluate the impact of the potential threats to blue whales, and developing, implementing, and evaluating the effectiveness of recovery actions to reduce threats or potential threats may take decades. The minimum data needed to satisfy the demographic (abundance and trend) criteria for downlisting or delisting are population structure studies and abundance surveys, which will also take decades, given the species' global distribution and the need to evaluate the abundance trend across a minimum of 30 years (as required by the trend criterion). If the necessary research is undertaken and demonstrates that the abundance and trend criteria have been met, and potential threats are evaluated and, as necessary, minimized or eliminated, it might be feasible to downlist or delist blue whales in 30 years. However, the time to recovery is likely greater, given the available information on abundance of some populations relative to the downlisting and delisting abundance criteria. In the future, as more information is obtained, it may be possible to develop estimates for the full time to recovery and its expense.

NMFS is seeking peer review of the Draft Plan concurrent with public review. NMFS will consider all substantive comments and information provided during the public comment period and by peer reviewers as we finalize this Plan. NMFS is also seeking input on the format of the final Plan and will consider approaches such as the U.S. Fish and Wildlife Service three-part framework for recovery planning and implementation (https://www.fws.gov/endangered/esa-library/pdf/RPI-Feb2017.pdf). NMFS is also seeking input on the format of the final Plan and will consider approaches such as the U.S. Fish and Wildlife Service three-part framework for recovery planning and implementation. Once finalized, the Plan will be used to guide U.S. activities and to encourage international cooperation to promote the recovery of this endangered species. NMFS' goal is to restore endangered blue whales to the point where they no longer need the protections of the ESA.

In addition, the ESA requires that we conduct a review of listed species at least once every five years. On the basis of such review under section 4(c)(2)(B), we determine whether any species should be removed from the list (i.e., delisted) or reclassified from endangered to threatened or from threatened to endangered (16 U.S.C. 1533(c)(2)(B)). Any change in Federal classification would require a separate rulemaking process. The regulations in 50 CFR 424.21 require that we publish a notice in the Federal Register announcing those species currently under active review. This notice announces our active review of the blue whale listed as endangered (35 FR 18319; December 2, 1970), as well as announcing the availability of the Draft Plan. Comments and information submitted will be considered in finalizing the Plan and under the 5-year review as applicable.

Authority: 16 U.S.C. 1531 et seq.

Dated: October 5, 2018.
Angela Somma,
Chief, Endangered Species Conservation Division, Office of Protected Resources, National Marine Fisheries Service.

[FR Doc. 2018-22218 Filed 10-11-18; 8:45 am]

BILLING CODE 3510-22-P